DEPARTMENT OF JUSTICE

Notice of Lodging of Consent Decree Under the Comprehensive Environmental Response, Compensation, and Liability Act (CERCLA)

On December 6, 2012, the Department of Justice lodged a proposed Consent Decree for Remedial Design/Remedial Action with the United States District Court for the Northern District of Alabama, Eastern Division in the lawsuit entitled United States of America v. Pharmacia Corporation and Solutia, Inc., Civil Action No. 1:02-CV-0749-KOB.

The Consent Decree represents a partial settlement of claims brought by the United States pursuant to the Comprehensive Environmental Response, Compensation, and Liability Act (CERCLA). The complaint, which was filed on March 25, 2002, contained claims seeking injunctive relief and the recovery of costs incurred by the United States in connection with the release and threatened release of hazardous substances, including polychlorinated biphenyls (“PCBs”) in and around Anniston, Alabama.

The proposed Consent Decree requires Defendant to perform the cleanup for OU-3 which is comprised of the real property on which the Defendants' plant, including the adjacent closed South Landfill and the closed West End Landfill, are located. OU-3 covers approximately 138 acres, with the area of current, active manufacturing operations covering approximately 68 acres of this real property. OU-3 is generally bounded to the north by the Northern Southern and Erie Railroads, to the east by Clydesdale Avenue, to the west by and including the West End Landfill and an Alabama Power Company substation, and to the south by and including the South End Landfill and Highway 202.

The selected remedy for OU-3 is soil capping and expanded groundwater extraction. The objectives of the remedial action for soils include: Reducing risks to area workers and trespassers from direct contact with, inhalation of, or incidental ingestion of contaminants of concern; prevent mitigation and leaching of contaminants of concern in subsurface soils; minimize migration of contaminants of concern in surface soil to surface water; and control future releases of contaminants of concern to ensure protection of public health and the environment. The cleanup goal for surface soil is PCBs of 25 ppm which is within the range recommended for industrial sites in the EPA's 1990 “Guidance on Remedial Actions for Superfund Sites with PCB Contamination.” EPA selected a cleanup level of 40 ppm for subsurface dioxins and dioxin-like PCBs. Remedial action will be required where sampling within areas of OU-3 show concentrations above the cleanup levels.

With respect to groundwater, the cleanup objectives include: Prevention of exposure to groundwater from direct contact with, inhalation of, and ingestion of contaminants of concern in groundwater above acceptable levels; prevent future migration of contaminated groundwater beyond the existing known limits of the contamination plume; and restore contaminated groundwater throughout each plume. The groundwater remedy includes subsurface and/or groundwater confirmation sampling, execution of an environmental covenant with the Alabama Department of Environmental Management to restrict land and groundwater use in the OU-3 area; monitoring of wells; optimization and expansion of existing groundwater corrective action, carbon filtration, and institutional controls to ensure long-term effectiveness of the remedy. The Consent Decree further requires the Defendants to reimburse EPA for its oversight of the work performed under the Decree by the Defendants.

The publication of this notice opens a period for public comments on the proposed Consent Decree. Comments should be addressed to the Assistant Attorney General, Environment and Natural Resources Division, and should refer to United States v. Pharmacia Corporation and Solutia, Inc., D.J. Ref. No. 90-11-2-07135/1. All comments must be submitted no later than thirty (30) days after the publication date of this notice. Comments must be submitted either by email or by mail:

To submit comments: | Send them to:
By email | pubcomment-ees.enrd@usdoj.gov
By mail | Assistant Attorney General, U.S. DOJ-ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to:

Consent Decree Library, U.S. DOJ—ENRD, P.O. Box 7611, Washington, DC 20044-7611.

Please enclose a check or money order for $71.75 (25 cents per page reproduction cost) payable to the United States Treasury. For a paper copy of the proposed Consent Decree without the exhibits, the cost is $12.25.

Henry Friedman,
Assistant Section Chief, Environmental Enforcement Section, Environment and Natural Resources Division.

[FR Doc. 2012-30095 Filed 12-12-12; 8:45 am]

BILLING CODE 4410-15-P